DEPARTMENT OF HOMELAND SECURITY

Coast Guard

[Docket No. USCG-2023-0091]

Great Lakes Pilotage Advisory Committee Meeting; February 2023 Meeting

AGENCY: Coast Guard, Department of Homeland Security.

ACTION: Notice of cancellation of the Federal Advisory Committee Meeting for the Great Lakes Pilotage Advisory Committee.

SUMMARY: The meeting of the Great Lakes Pilotage Advisory Committee scheduled for February 8, 2023, from 8 a.m. until 5:30 p.m. Central Standard Time (CST) is cancelled.

DATES: This meeting was announced in the Federal Register on Thursday, January 5, 2023 (88 FR 878).

FOR FURTHER INFORMATION CONTACT: Mr. Frank Levesque, Alternate Designated Federal Officer of the Great Lakes Pilotage Advisory Committee, telephone, (571)-308-4941, or email Francis.R.Levesque@uscg.mil.

SUPPLEMENTARY INFORMATION: The Committee acts solely in an advisory capacity to the Secretary of the Department of Homeland Security through the Commandant of the Coast Guard and the Director of Marine Transportation Systems on matters relating to Great Lakes Pilotage, including review of proposed Great Lakes Pilotage regulations and policies. Notice of cancellation of this meeting is given under the Federal Advisory Committee Act (5 U.S.C. 10).

Dated: January 9, 2023.
Michael D. Emerson,
Director, Marine Transportation Systems, U.S. Coast Guard.

[FR Doc. 2023-00583 Filed 1-12-23; 8:45 am]

BILLING CODE 9110-04-P